DEPARTMENT OF AGRICULTURE

Forest Service

Greater Rocky Mountain Resource Advisory Committee

AGENCY: Forest Service, Agriculture (USDA).

ACTION: Notice of meeting.

SUMMARY: The Greater Rocky Mountain Resource Advisory Committee (RAC) will hold a public meeting according to the details shown below. The committee is authorized under the Secure Rural Schools and Community Self-Determination Act (the Act) and operates in compliance with the Federal Advisory Committee Act (FACA). The purpose of the committee is to improve collaborative relationships and to provide advice and recommendations to the Forest Service concerning projects and funding consistent with title II of the Act as well as to make recommendations on recreation fee proposals for sites on the Arapaho Roosevelt, Bighorn, Grand Mesa-Uncompahgre-Gunnison, Medicine Bow-Routt, Pike-San Isabel, Rio Grande, San Juan, Shoshone, and White River National Forests within Archuleta, Dolores, Saguache, Conejos, Hinsdale, La Plata, Mineral, Bighorn, Chaffee, Delta, Garfield, Gunnison, Huerfano, Jackson, Larimer, Mesa, Montrose, Park, Routt, Albany, Fremont, Rio Grande, Montezuma, and Carbon Counties consistent with the Federal Lands Recreation Enhancement Act.

DATES: A virtual meeting will be held on June 26, 2023, 8:30 a.m.-5:00 p.m. and June 27, 2023, 8:30 a.m.-5:00 p.m. Mountain Standard Time (MST).

Written and Oral Comments: Anyone wishing to provide virtual oral comments must pre-register by 11:59 p.m. (MST) on June 14, 2023. Written public comments will be accepted by 11:59 p.m. (MST) on June 14, 2023. Comments submitted after this date will be provided to the Agency, but the Committee may not have adequate time to consider those comments prior to the meeting.

All RAC meetings are subject to cancellation. For status of the meeting prior to attendance, please contact the person listed under FOR FURTHER INFORMATION CONTACT.

ADDRESSES: The public may also join virtually via webcast, teleconference, videoconference, and/or Homeland Security Information Network (HSIN) virtual meeting at: https://www.microsoft.com/en-us/microsoft-teams/join-a-meeting?rtc=1. Or call in (audio only) 1-970-812-0909 and when prompted enter #973232530. RAC information and meeting details can be found at the following website: www.fs.usda.gov/detail/r2/home/?cid=fseprd972168 or by contacting the person listed under FOR FURTHER INFORMATION CONTACT.

Written Comments: Written comments must be sent by email to nicole.hutt@usda.gov or via mail (i.e., postmarked) to Nicole Hutt, 2250 South Main Street, Delta, CO 81416. The Forest Service strongly prefers comments be submitted electronically.

Oral Comments: Persons or organizations wishing to make oral comments must pre-register by 11:59 p.m. (MST) on April 14, 2023, and speakers can only register for one speaking slot. Oral comments must be sent email to nicole.hutt@usda.gov or via mail (i.e., postmarked) to Nicole Hutt, 2250 South Main Street, Delta, CO 81416.

FOR FURTHER INFORMATION CONTACT: Chad Stewart, Designated Federal Officer (DFO), by phone at 970-874-6674 or email at chad.stewart@usda.gov or Nicole Hutt, RAC Coordinator, at 970-596-9070 or email at nicole.hutt@usda.gov.

SUPPLEMENTARY INFORMATION: The purpose of the meetings are to:

1. Roll Call to find Quorum;

2. Review the status of funds;

3. Approve previous meeting minutes;

4. Review Project proposals for recommendation to approve;

5. Review Project proposals for recommendation to fund; and

6. Any remaining business.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: May 4, 2023.
Cikena Reid,
USDA Committee Management Officer.

[FR Doc. 2023-09881 Filed 5-9-23; 8:45 am]

BILLING CODE 3411-15-P